COMMITTEE FOR PURCHASE FROM PEOPLE WHO ARE BLIND OR SEVERELY DISABLED

Procurement List; Additions and Deletion

AGENCY: Committee for Purchase From People Who Are Blind or Severely Disabled.

ACTION: Additions to and Deletion from the Procurement List.

SUMMARY: This action adds to the Procurement List a product and services to be furnished by nonprofit agencies employing persons who are blind or have other severe disabilities, and deletes from the Procurement List a service previously furnished by such agencies.

DATES: Effective Date: August 10, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On April 25, May 2, May 9 and May 16, 2008, the Committee for Purchase From People Who Are Blind or Severely Disabled published notice (73 FR 22324; 24219; 26363; 28429) of proposed additions to the Procurement List.

After consideration of the material presented to it concerning capability of qualified nonprofit agencies to provide the product and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Cap, Garrison, Unisex, U.S. Navy

NSN: 8405-01-539-5868—Size 6 3/8

NSN: 8405-01-539-5869—Size 6 1/2

NSN: 8405-01-539-5873—Size 6 5/8

NSN: 8405-01-539-5887—Size 6 3/4

NSN: 8405-01-539-5888—Size 6 7/8

NSN: 8405-01-539-5889—Size 7

NSN: 8405-01-539-5891—Size 7 1/8

NSN: 8405-01-539-5892—Size 7 1/4

NSN: 8405-01-539-5894—Size 7 3/8

NSN: 8405-01-539-5895—Size 7 1/2

NSN: 8405-01-539-5897—Size 7 5/8

NSN: 8405-01-539-5900—Size 7 3/4

NSN: 8405-01-539-5934—Size 7 7/8

NSN: 8405-01-539-5937—Size 8

NSN: 8405-01-539-5939—Size 8 1/8

NSN: 8405-01-539-5962—Size 8 1/4

NSN: 8405-01-539-5969—Size 8 3/8

NSN: 8405-01-539-6335—Size 8 1/2

NPA: Goodwill Industries of South Florida, Inc., Miami, FL.

Coverage: C-List for 25% of the requirement of the Defense Supply Center Philadelphia, Philadelphia, PA.

Contracting Activity: Defense Supply Center Philadelphia, Philadelphia, PA.

Services

Service Type/Location: Custodial & Grounds Maintenance.

U.S. Federal Building and Courthouse—St. Thomas, 5500 Veterans Drive, St. Thomas, U.S. Virgin Islands.

Service Type/Location: Custodial Services.

Louis Munoz Marin International Airport, TSA Occupied Spaces, Carolina, PR.

Service Type/Location: Custodial Services.

Social Security Administration Building, Plaza Sierra Cayey, Building PR3871ZZ, Cayey, PR.

NPA: The Corporate Source, Inc., New York, NY.

Contracting Activity: General Services Administration, Caribbean Property Management Center, Hato Rey, PR.

Service Type/Location: Custodial Services.

U.S. Army Reserve Center, 400 Wyoming Blvd NE., Albuquerque, NM.

NPA: Adelante Development Center, Inc., Albuquerque, NM.

Contracting Activity: 90th Regional Readiness Command, North Little Rock, AR.

Service Type/Location: Mailroom Operations.

Fort Stewart, 1042 William H. Wilson Avenue, Fort Stewart, GA.

NPA: Abilities, Inc. of Florida, Clearwater, FL.

Contracting Activity: Army Contracting Agency, Directorate of Contracting, Fort Stewart, GA.

Deletion

On May 9, 2008, the Committee for Purchase From People Who Are Blind or Severely Disabled published notice (73 FR 26362) of proposed deletions to the Procurement List.

After consideration of the relevant matter presented, the Committee has determined that the service listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the service to the Government.

3. There are no known regulatory alternatives which would accomplish the objectives of the Javits-Wagner-O'Day Act (41 U.S.C. 46-48c) in connection with the service deleted from the Procurement List.

End of Certification

Accordingly, the following service is deleted from the Procurement List:

Service

Service Type/Location: Janitorial/Custodial.

Veterans Affairs Medical Center, Seattle, WA.

NPA: Seattle Mental Health Institute, Inc., Seattle, WA.

Contracting Activity: Department of Veterans Affairs, Washington, DC.

Kimberly M. Zeich,
Director, Program Operations.

[FR Doc. E8-15781 Filed 7-10-08; 8:45 am]

BILLING CODE 6353-01-P